DEPARTMENT OF TRANSPORTATION

Federal Aviation Administration

[Summary Notice No. PE-2000-27]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No. _____, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, D.C., on July 28, 2000.
Donald P. Byrne,
Assistant Chief Counsel for Regulations.

Dispositions of Petitions

Docket No. 28454.

Petitioner: Civil Air Patrol.

Section of the FAR Affected: 14 CFR subpart F of part 91.

Description of Relief Sought/Disposition: To permit CAP to operate small aircraft under subpart F of part 91 and receive limited reimbursement for certain flights within the scope of and incidental to the CAP's corporate purposes and U.S. Air Force Auxiliary status.

Grant, 07/18/00, Exemption No. 6485B

Docket No.: 26582.

Petitioner: Air Transport Association, of America.

Section of the FAR Affected: 14 CFR 61.3(a) and (c), 63.3(a), and 121.383(a)(2).

Description of Relief Sought/Disposition: To permit an air carrier to issue written confirmation of an FAA-issued crewmember certificate to a flight crewmember employed by that air carrier based on information in the air carrier's approved record system.

Grant, 07/18/00, Exemption No. 5487D

Docket No.: 29304.

Petitioner: Rotorcraft Leasing Company, L.L.C.

Section of the FAR Affected: 14 CFR 135.143(c)(2).

Description of Relief Sought/Disposition: To permit RLC to operate certain aircraft under part 135 without a TSO-C112 (Mode S) transponder installed on those aircraft.

Grant, 07/13/00, Exemption No. 6810A

Docket No.: 27785.

Petitioner: Chevron U.S.A. Production Company.

Section of the FAR Affected: 14 CFR 135.143(c)(2).

Description of Relief Sought/Disposition: To permit Chevron to operate certain aircraft under part 135 without a TSO-C112 (Mode S) transponder installed on those aircraft.

Grant, 07/18/00, Exemption No. 5948C

Docket No.: 29691.

Petitioner: Helping Hands Society of Hazleton Area/Carbon & Schuylkill County.

Section of the FAR Affected: 14 CFR 135.251, 135.255, 135.353, and appendixes I and J to part 121.

Description of Relief Sought/Disposition: To permit HHSHA to conduct local sightseeing flights at Hazleton Municipal Airport for a two-day aviation festival in July 2000, for compensation or hire, without complying with certain anti-drug and alcohol misuse prevention requirements of part 135.

Grant, 07/17/00, Exemption No. 7276

Docket No.: 30092.

Petitioner: Mr. Robert J. Ross.

Section of the FAR Affected: 14 CFR 135.251, 135.255, 135.353, and appendixes I and J to part 121.

Description of Relief Sought/Disposition: To permit Mr. Ross to conduct one local sightseeing flight at Santa Monica Airport, California, for compensation or hire benefiting the Ocean Park Community Center, on a date in 2000 to be agreed upon by Mr. Ross and the passengers, without complying with certain anti-drug and alcohol misuse prevention requirements of part 135.

Grant, 07/11/00, Exemption No. 7271

Docket No.: 30093.

Petitioner: Mr. Robert J. Ross.

Section of the FAR Affected: 14 CFR 135.251, 135.255, 135.353, and appendixes I and J to part 121.

Description of Relief Sought/Disposition: To permit Mr. Ross to conduct one local sightseeing flight at Santa Monica Airport, California, for compensation or hire benefiting the Lyon's Club Wilderness Camp for Deaf Children, on a date in 2000 to be agreed upon by Mr. Ross and the passengers, without complying with certain anti-drug and alcohol misuse prevention requirements of part 135.

Grant, 07/11/00, Exemption No. 7272

[FR Doc. 00-19522 Filed 8-1-00; 8:45 am]

BILLING CODE 4910-13-M